DEPARTMENT OF EDUCATION

Tech-Prep Demonstration Program

AGENCY: Office of Vocational and Adult Education, Department of Education.

ACTION: Notice of final requirements and selection criteria.

SUMMARY: The Assistant Secretary for Vocational and Adult Education announces requirements and selection criteria under the Tech-Prep Demonstration Program (TPDP). The Assistant Secretary may use these requirements and selection criteria for competitions in fiscal year (FY) 2005 and later years. We take this action to clarify the Department's expectations regarding this program, so that TPDP-funded projects will help students, schools, and teachers in their efforts to improve student achievement, meet high standards for high school graduation, and increase enrollment and persistence rates in postsecondary education.

DATES: These requirements and selection criteria are effective May 16, 2005.

FOR FURTHER INFORMATION CONTACT: Laura Karl Messenger, U.S. Department of Education, 400 Maryland Avenue, SW., room 11028, Potomac Center Plaza, Washington DC 20202-7241. Telephone: (202) 245-7840 or via Internet: Laura.messenger@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: This final notice establishes program requirements and selection criteria for the TPDP, which is authorized by section 207 of the Carl D. Perkins Vocational and Technical Education Act of 1998 (Perkins III). TPDP provides grants to consortia to carry out tech-prep education projects that involve the location of a secondary school on the site of a community college, a business as a member of the consortium, and the voluntary participation of secondary school students. We intend to fund projects that, following an initial recruitment period, will enroll a new student cohort in each year of the project, in addition to continuing support for each previous TPDP student cohort.

We published a notice of proposed requirements and selection criteria in the Federal Register on February 10, 2005 (70 FR 7085). In that notice, we discussed (on pages 7085 though 7088) the proposed requirements and selection criteria for the TPDP competition to be conducted in FY 2005 and TPDP competitions in subsequent years.

Analysis of Comments and Changes

In response to our invitation in the notice of proposed requirements and selection criteria, two parties submitted comments. An analysis of those comments and our responses follows. Specifically, we have made a change to requirement 3 to clarify our intent regarding virtual school participation in eligible TPDP projects. In addition, based on our internal review of the requirements and selection criteria since publication of the notice of proposed requirements and selection criteria, we have made a change to the performance indicators requirement regarding mathematics course taking. A description of that change also follows.

We discuss substantive issues under the title of the requirement or selection criteria to which they pertain. Generally, we do not address technical and other minor changes—and suggested changes the law does not authorize us to make under the applicable statutory authority.

Eligibility Requirements

Comment: One commenter recommended that older, established schools be allowed to apply for TPDP funding.

Discussion: Section 207 of Perkins III requires that a TPDP project “involve the location of a secondary school on the site of a community college.” This statutory requirement does not preclude older, established schools from applying for TPDP funding, as long as any such school is a member of an eligible consortium, is located on the campus of a community college, and would carry out a tech-prep education project.

Changes: None.

Comment: One commenter stated that virtual schools should be allowed to apply for funding under the TPDP as long as they collaborate with secondary and postsecondary schools.

Discussion: The requirements for membership in a TPDP consortium are taken from the statutory language in section 204(a) and section 207(b) of Perkins III. While section 207 does not identify a virtual school as a required member of an eligible consortium, it does not preclude participation by a virtual school. Thus, a virtual school is eligible for consortium membership if an applicant chooses to include it, or may serve some function in a TPDP project, as long as the project satisfies the statutory requirement that a TPDP project “involve the location of a secondary school on the site of a community college.” As it was not the Department's intent to exclude a virtual school from participation in an eligible TPDP project, the wording of requirement 3 has been revised.

Changes: A change has been made. Under requirement 3 as revised, the reference to the “virtual location” of a secondary school has been deleted, and a statement has been added regarding allowable modes of instruction.

Performance Indicators Requirement

Comment: None.

Discussion: We have reviewed the requirements and selection criteria since publication of the notice of proposed requirements and selection criteria and have made a change to the performance indicators requirement regarding mathematics course taking. In the notice of proposed requirements and selection criteria, we proposed the following performance indicator: completion of one or more mathematics courses in addition to Algebra I, Algebra II, and Geometry by the time of high school graduation. In order to comply with the Department's Principles for Regulating, which includes ensuring consistency among performance indicators used across Federally-funded education programs, we have elected to change this performance indicator so that it is consistent with the performance indicator concerning mathematics course taking used in other Federally-funded education programs.

Changes: As revised, the performance indicator in paragraph (6)(b) provides for completion of Algebra I, Geometry, and Algebra II by the time of high school graduation.

Note: This notice does not solicit applications. In any year in which we choose to use one or more of these requirements and selection criteria, we invite applications through a notice in the Federal Register.

Requirements

To achieve the purposes of section 207 of Perkins III, we establish the following requirements. We may apply these requirements to any TPDP competition and to any projects funded in the future.

(1) Each applicant must submit a signed consortium agreement (Agreement), providing evidence that each of the categories of membership required under section 207 of Perkins III has been satisfied and that each of the required members is eligible for membership under the provisions of Perkins III. The Agreement must contain a signature of commitment from each participating secondary school, community college, and business member, affirming that those entities have formed a consortium to develop, implement, and sustain a TPDP project as described under section 207 of Perkins III. The Agreement also must describe the roles and responsibilities of each consortium member within the proposed TPDP project. The format for the Agreement will be included in the application package.

(2) Each applicant must submit a complete proposed project course sequence plan (Plan), for each program of study within the proposed TPDP project, to demonstrate how the proposed instructional program represents a sequential, four-year program of study that meets the specific criteria set forth in sections 202(a)(3) and 204(c) of Perkins III. The Plan must list the course sequence for each program of study within the proposed TPDP project, describing the specific academic and technical coursework required for all four years of the program. The Plan also must summarize program entrance requirements and specify the associate degree or postsecondary certificate to be earned upon completion of the program. The format for the Plan will be included in the application package.

(3) Each applicant must provide evidence that a secondary school will be located on the site of a community college and will provide a complete program of academic and technical coursework at the community college that, at a minimum, meets State requirements for high school graduation. Students must be enrolled full-time in the high school on the community college campus; however, this requirement allows for the delivery of instruction through distance education programs. Enrolled students may participate in extracurricular activities at their original high school. Proposed projects that involve only satellite community college sites located on the premises of secondary schools are not eligible for support under this program.

(4) Each applicant must provide an assurance that it will enroll its first student cohort and begin classes by September of the calendar year following the calendar year in which the grant award is made, and enroll its second, third, and fourth student cohorts by September of each subsequent year of the proposed TPDP project.

(5) Each applicant must submit enrollment goals for the number of students in each student cohort to be enrolled in each year of the proposed TPDP project.

(6) Each applicant must submit annual performance goals for each of the performance indicators discussed below. Successful applicants must reach agreement with us on their annual performance goals for each performance indicator. TPDP-funded projects will be required to use the following performance indicators to measure the progress of students in the TPDP-funded project—

(a) Retention of high school juniors for their senior year in the TPDP-funded program of study;

(b) Completion of Algebra I, Geometry, and Algebra II by the time of high school graduation;

(c) Completion of one or more science courses in addition to high school biology and chemistry by the time of high school graduation;

(d) High school graduation;

(e) Attainment of nine or more postsecondary credits by the time of high school graduation;

(f) Enrollment in postsecondary education following high school graduation;

(g) Reduction in the need for remediation in postsecondary education following high school; and

(h) Attainment of a postsecondary degree or certificate.

(7) Each applicant must submit a plan for annual project evaluations. Each evaluation must be conducted by an independent evaluator and must provide information to the members of the consortium and project staff that will be useful in gauging progress and identifying areas for improvement, particularly with regard to the required performance indicators.

(8) Each applicant must provide an assurance that it will submit annual reports of anticipated enrollment that include the number of students in each cohort who will be enrolled for the subsequent year and, if that number differs from the enrollment goals for that year stated in the approved application, the reasons for such a difference. Each annual report of anticipated enrollment will be due at the end of April of each project year.

(9) Each applicant must provide an assurance that it will submit annual project performance reports and a final project performance report, that: Summarize the TPDP project's progress and significant accomplishments and provide data on the agreed-upon performance indicators and goals; identify barriers to continued progress and outline solutions; include the annual evaluation report that was prepared by the independent evaluator; and review plans for or progress towards sustained operations after the cessation of Federal support. Each annual performance report will be due within 90 days of the end of each project year and the final performance report will be due 90 days after the end of the project.

Funded projects will be required to comply with all requirements adopted in this notice. Failure to comply with any applicable program requirement may subject a grantee to special conditions, withholding, or termination.

Selection Criteria

We establish the following selection criteria to evaluate applications for new grants under this program. We may apply these selection criteria in any year in which this program is in effect.

Note: The maximum score for all of these criteria will be 100 points. We inform applicants of the points or weights assigned to each criterion and sub-criterion in the application package and in a notice published in the Federal Register. In addition to the points to be awarded to applicants based on the selection criteria adopted in this notice, we will award additional points to applications that satisfy the criteria for special consideration under section 207(d)(3) of Perkins III and will inform applicants of the points assigned to the special consideration under section 207(d)(3) of Perkins III in a notice published in the Federal Register.

(1) Quality of the project design.

In determining the quality of the design of the proposed project, we consider the following factors:

(a) The extent to which the applicant demonstrates its readiness to implement a complete, career-oriented, four-year program of study, as evidenced by a formal articulation agreement concerning the structure, content, and sequence of all academic and technical courses to be offered in the proposed tech-prep program and, if applicable, the conditions under which dual credit will be awarded.

(b) The extent to which the applicant's proposed secondary academic and technical course offerings and graduation requirements prepare students to enter postsecondary education without the need for remediation and are aligned with the entrance requirements for postsecondary degree and certificate programs.

(c) The extent to which the proposed instructional program incorporates high academic standards that equal or exceed those established by the State and reflects industry-recognized skills and knowledge.

(d) The extent to which the applicant demonstrates that consortium efforts will align the ninth-grade and tenth-grade curricula with proposed TPDP program entrance requirements, to ensure a sizable, qualified applicant pool for the proposed TPDP program.

(e) The extent to which the applicant presents a detailed student recruitment plan that is likely to be effective in fulfilling the project's enrollment goals for each year of the project.

(f) The extent to which the applicant demonstrates that it has designed a comprehensive academic and career counseling program for participating students at both the secondary and postsecondary levels and will provide specific support services to ensure students' persistence in the program to the attainment of a postsecondary degree or certificate.

(g) The extent to which the applicant demonstrates that the business member(s) of the consortium and other area employers have agreed to provide structured work-based learning opportunities to TPDP students that are directly related to the proposed technical program(s) of study.

(h) The extent to which the proposed project will provide intensive professional development, specifically designed to help achieve the goals of the program, for secondary and postsecondary instructors, counselors, and administrators involved in the program.

(2) Quality of the management plan.

In determining the quality of the management plan for the proposed project, we consider the following factors:

(a) The extent to which the management plan outlines specific, measurable goals, objectives, and outcomes to be achieved by the proposed project.

(b) The extent to which the management plan assigns responsibility for the accomplishment of project tasks to specific project personnel and provides timelines for the accomplishment of project tasks.

(c) The extent to which the time commitments of the project director and other key personnel are appropriate and adequate to achieve the objectives of the proposed project.

(3) Quality of project personnel.

In determining the quality of project personnel, we consider the following factors:

(a) The extent to which the applicant encourages applications for employment from members of groups that have traditionally been underrepresented based on race, color, national origin, gender, age, or disability.

(b) The qualifications, including relevant training and experience, of the project director.

(c) The qualifications, including relevant training and experience, of key project personnel, including teachers, counselors, administrators, and project consultants.

(4) Adequacy of resources.

In determining the adequacy of resources for the proposed project, we consider the following factors:

(a) The adequacy of support, including facilities, equipment, supplies, and other resources, from the participating institutions.

(b) The extent to which the budget is adequate and costs are reasonable in relation to the objectives and design of the proposed project.

(5) Quality of the project evaluation.

In determining the quality of the evaluation, we consider the following factors:

(a) The extent to which the methods of evaluation are thorough, feasible, and appropriate, will solicit input from all consortium members regarding program effectiveness, and will yield accurate and reliable data for each of the required performance indicators.

(b) The extent to which the evaluation will produce reports or other documents at appropriate intervals to enable consortium members to use the data for planning and decision making for continuous program improvement.

(c) The extent to which the independent evaluator possesses the necessary background and expertise to carry out the evaluation.

Executive Order 12866

This notice of final requirements and selection criteria has been reviewed in accordance with Executive Order 12866. Under the terms of the order, we have assessed the potential costs and benefits of this regulatory action.

The potential costs associated with the notice of final requirements and selection criteria are those resulting from statutory requirements and those we have determined as necessary for administering this program effectively and efficiently.

In assessing the potential costs and benefits—both quantitative and qualitative—of this notice of final requirements and selection criteria, we have determined that the benefits of the final requirements and selection criteria justify the costs.

We have also determined that this regulatory action does not unduly interfere with State, local, and tribal governments in the exercise of their governmental functions.

We summarized the costs and benefits in the notice of proposed requirements and selection criteria.

Intergovernmental Review

This program is subject to Executive Order 12372 and the regulations in 34 CFR part 79. One of the objectives of the Executive Order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.353 Tech-Prep Demonstration Program)

Program Authority: 20 U.S.C. 2376.

Dated: April 11, 2005.
Susan Sclafani,
Assistant Secretary for Vocational and Adult Education.

[FR Doc. 05-7526 Filed 4-13-05; 8:45 am]

BILLING CODE 4000-01-P